DEPARTMENT OF ENERGY

Federal Energy Regulatory Commission

Combined Notice of Filings #1

Take notice that the Commission received the following electric corporate filings:

Docket Numbers: EC16-77-002.

Applicants: BlackRock, Inc.

Description: Application for Authorization Under Section 203 of the Federal Power Act of BlackRock, Inc.

Filed Date: 2/18/22.

Accession Number: 20220218-5095.

Comment Date: 5 p.m. ET 3/11/22.

Docket Numbers: EC19-57-001.

Applicants: The Vanguard Group, Inc., Vanguard Global Advisors, LLC, Vanguard Asset Management, Ltd., Vanguard Investments Australia Ltd., Vanguard Fiduciary Trust Company.

Description: Joint Application for Authorization Under Section 203 of the Federal Power Act of The Vanguard Group, Inc., et al.

Filed Date: 2/16/22.

Accession Number: 20220216-5229.

Comment Date: 5 p.m. ET 3/9/22.

Take notice that the Commission received the following Complaints and Compliance filings in EL Dockets:

Docket Numbers: EL19-58-011.

Applicants: PJM Interconnection, L.L.C.

Description: Compliance filing: Compliance Filing Docket Nos. EL19-58, ER19-1486 to be effective 11/12/2020.

Filed Date: 2/18/22.

Accession Number: 20220218-5124.

Comment Date: 5 p.m. ET 3/10/22.

Take notice that the Commission received the following electric rate filings:

Docket Numbers: ER10-3125-015.

Applicants: AL Sandersville, LLC.

Description: Supplement to August 20, 2021 Notice of Non-Material Change in Status of AL Sandersville, LLC.

Filed Date: 2/18/22.

Accession Number: 20220218-5156.

Comment Date: 5 p.m. ET 3/11/22.

Docket Numbers: ER19-105-007.

Applicants: PJM Interconnection, L.L.C.

Description: Compliance filing: Compliance Filing to Commission's1/20/22 Order in ER19-105 to be effective 2/19/2022.

Filed Date: 2/18/22.

Accession Number: 20220218-5032.

Comment Date: 5 p.m. ET 3/11/22.

Docket Numbers: ER20-1087-002.

Applicants: New England Electric Transmission Corporation.

Description: Compliance filing: 2nd Amended Order No. 864 Compliance Filing of New England Electric Transmission to be effective 1/27/2020.

Filed Date: 2/18/22.

Accession Number: 20220218-5125.

Comment Date: 5 p.m. ET 3/11/22.

Docket Numbers: ER20-1088-002.

Applicants: New England Hydro Transmission Electric Company.

Description: Compliance filing: 2nd Amended Order No. 864 Compliance Filing—NEHTEC Massachusetts Phase II Agmt to be effective 1/27/2020.

Filed Date: 2/18/22.

Accession Number: 20220218-5135.

Comment Date: 5 p.m. ET 3/11/22.

Docket Numbers: ER20-1089-002.

Applicants: New England Hydro Transmission Corporation.

Description: Compliance filing: 2nd Amended Order No. 864 Compliance Filing—NEHTC New Hampshire Phase II Agmt to be effective 1/27/2020.

Filed Date: 2/18/22.

Accession Number: 20220218-5138.

Comment Date: 5 p.m. ET 3/11/22.

Docket Numbers: ER21-1694-002.

Applicants: ISO New England Inc., Green Mountain Power Corporation.

Description: Compliance filing: ISO New England Inc. submits tariff filing per 35: GMP; Compliance Filing to Revise Effective Date for Order No. 864 to be effective 1/27/2020.

Filed Date: 2/18/22.

Accession Number: 20220218-5184.

Comment Date: 5 p.m. ET 3/11/22.

Docket Numbers: ER22-1076-000.

Applicants: Hawtree Creek Farm Solar, LLC.

Description: Baseline eTariff Filing: Reactive Power Compensation Filing to be effective 2/19/2022.

Filed Date: 2/18/22.

Accession Number: 20220218-5030.

Comment Date: 5 p.m. ET 3/11/22.

Docket Numbers: ER22-1077-000.

Applicants: Midcontinent Independent System Operator, Inc., American Transmission Company LLC.

Description: § 205(d) Rate Filing: Midcontinent Independent System Operator, Inc. submits tariff filing per 35.13(a)(2)(iii) 2022-02-18_SA 3785 ATC-WPL-West Sharon PCA to be effective 4/20/2022.

Filed Date: 2/18/22.

Accession Number: 20220218-5055.

Comment Date: 5 p.m. ET 3/11/22.

Docket Numbers: ER22-1078-000.

Applicants: Deseret Generation & Transmission Co-operative, Inc.

Description: § 205(d) Rate Filing: 2021 RIA Annual Update and Amend to be effective 1/1/2021.

Filed Date: 2/18/22.

Accession Number: 20220218-5065.

Comment Date: 5 p.m. ET 3/11/22.

Docket Numbers: ER22-1079-000.

Applicants: Pacific Gas and Electric Company.

Description: § 205(d) Rate Filing: CCSF Sunol Golf Course Additional Project Filing (SA 275) to be effective 4/20/2022.

Filed Date: 2/18/22.

Accession Number: 20220218-5075.

Comment Date: 5 p.m. ET 3/11/22.

Docket Numbers: ER22-1080-000.

Applicants: Southern California Edison Company.

Description: § 205(d) Rate Filing: Victorville SCLA Portland IFA DSA SA No 1173 1174 WDT1662 to be effective 2/19/2022.

Filed Date: 2/18/22.

Accession Number: 20220218-5109.

Comment Date: 5 p.m. ET 3/11/22.

Docket Numbers: ER22-1081-000.

Applicants: PJM Interconnection, L.L.C.

Description: § 205(d) Rate Filing: Revisions to OA, Sch. 12 and RAA, Sch. 17 re: Quarterly Member Lists Update to be effective 12/30/2021.

Filed Date: 2/18/22.

Accession Number: 20220218-5118.

Comment Date: 5 p.m. ET 3/11/22.

Docket Numbers: ER22-1082-000.

Applicants: Commonwealth Edison Company, PJM Interconnection, L.L.C.

Description: § 205(d) Rate Filing: Commonwealth Edison Company submits tariff filing per 35.13(a)(2)(iii) ComEd submits Amendment to Attachment H-13A to be effective 4/20/2022.

Filed Date: 2/18/22.

Accession Number: 20220218-5123.

Comment Date: 5 p.m. ET 3/11/22.

Docket Numbers: ER22-1083-000.

Applicants: PJM Interconnection, L.L.C.

Description: § 205(d) Rate Filing: Amendment to ISA No. 3483, Queue No. AA2-069—Garrison (amend) to be effective 4/2/2018.

Filed Date: 2/18/22.

Accession Number: 20220218-5131.

Comment Date: 5 p.m. ET 3/11/22.

Docket Numbers: ER22-1084-000.

Applicants: Deuel Harvest Wind Energy LLC.

Description: § 205(d) Rate Filing: Deuel Harvest Wind MBR Tariff Amendment to be effective 4/19/2022.

Filed Date: 2/18/22.

Accession Number: 20220218-5152.

Comment Date: 5 p.m. ET 3/11/22.

Docket Numbers: ER22-1085-000.

Applicants: Panorama Wind, LLC.

Description: Baseline eTariff Filing: Market-Based Rate Application and Request for Expedited Action to be effective 2/19/2022.

Filed Date: 2/18/22.

Accession Number: 20220218-5183.

Comment Date: 5 p.m. ET 3/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2022.
Debbie-Anne A. Reese,
Deputy Secretary.

[FR Doc. 2022-04047 Filed 2-24-22; 8:45 am]

BILLING CODE 6717-01-P